DEPARTMENT OF HEALTH AND HUMAN SERVICES

Health Resources and Services Administration

Advisory Committee on Training in Primary Care Medicine and Dentistry; Notice of Meeting

In accordance with section 10(a)(2) of the Federal Advisory Committee Act (Public Law 92-463), announcement is made of the following National Advisory body scheduled to meet during the month of October 2002.

Name: Advisory Committee on Training in Primary Care Medicine and Dentistry (ACTPCMD).

Date and Time: October 24, 2002; 8:30 a.m.-5 p.m. October 25, 2002; 8 a.m.-2:15 p.m.

Place: The Holiday Inn Select, 8120 Wisconsin Avenue, Bethesda, Maryland 20814.

The meeting is open to the public.

Purpose: The Advisory Committee provides advice and recommendations on a broad range of issues dealing with programs and activities authorized under section 747 of the Public Health Service Act as amended by The Health Professions Education Partnership Act of 1998, Public Law 105-392. This meeting will provide the basis for the third report of the Advisory Committee which will be submitted to Congress and the Secretary of the Department of Health and Human Services in November 2003. The third report will focus on disparities in health care and their implications in primary care medical education.

Agenda: The meeting on Thursday, October 24 will begin with welcoming and opening comments from the Chair and Executive Secretary of the Advisory Committee. A plenary session will follow, in which four speakers will characterize changing demographics, unequal medical treatment, and needed changes in medical education and their relationship to disparities in health care. The Advisory Committee will then divide into three workgroups which will focus on developing recommendations for improving primary care education and training to lessen health disparities and assure quality of care.

On October 25, workgroups will reconvene in the morning to finalize recommendations. A plenary session will follow, with reports by workgroup chairs, general discussion, and decisions by the Advisory Committee on official recommendations. The Advisory Committee will also discuss plans for future work and provide an opportunity for public comment.

Anyone interested in obtaining a roster of members or other relevant information should write or contact Stan Bastacky, D.M.D., M.H.S.A., Acting Deputy Executive Secretary, Advisory Committee on Training in Primary Care Medicine and Dentistry, Parklawn Building, Room 9A-21, 5600 Fishers Lane, Rockville, Maryland 20857, Telephone (301) 443-6326. The web address for information on the Advisory Committee is http://bhpr.hrsa.gov/medicine-dentistry/actpcmd.

Dated: September 10, 2002.
Jane M. Harrison,
Director, Division of Policy Review and Coordination.

[FR Doc. 02-23560 Filed 9-16-02; 8:45 am]

BILLING CODE 4165-15-P